ENVIRONMENTAL PROTECTION AGENCY

[ER-FRL-6671-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050389, ERP No. D-FHW-J40171-CO, US Highway 160, Transportation Improvements from Junction U.S. 160/550 Durango—East to Bayfield, US Army COE Section 404 Permit, La Plata County, CO.

Summary: EPA has environmental concerns with the proposed project regarding impacts to wetlands and cumulative impacts to air quality. Rating EC2.

EIS No. 20050433, ERP No. D-FHW-F40433-WI, US Highway 12, Improvement from US12/WI-26 North Fort Atkinson Interchange to Whitewater Bypass, Funding, Rock and Jefferson Counties, WI.

Summary: EPA has environmental concerns with the proposed project regarding impacts to wetlands and water quality as well as secondary and cumulative impacts. Rating EC2.

Final EISs

EIS No. 20050461, ERP No. F-AFS-J65416-WY, Bighorn National Forest Revised Land and Resource Management Plan, Implementation, Big Horn Mountain Range, Bighorn National Forest, Johnson, Sheridan, Bighorn, and Washakie Counties, WY.

Summary: While the Final EIS and selected alternative improve monitoring for grazing activities, EPA continues to have environmental concerns with potential adverse environmental impacts, including cumulative impacts to water quality, fisheries and wildlife habitat from new road construction, timber harvest and an 85% reduction of roadless areas.

EIS No. 20050486, ERP No. F-AFS-L65479-0R, Timberline Express Project, To Improve the Winter Recreational Opportunities, Implementation, Zigzag Ranger District, Mt. Hood National Forest, Clackamas County, OR.

Summary: The final EIS addressed EPA's environmental concerns about water resources, habitat fragmentation, and infrastructure constraints.

Dated: January 3, 2006.
Clifford Rader,
Environmental Protection Specialist, Office of Federal Activities.

[FR Doc. E6-25 Filed 1-5-06; 8:45 am]

BILLING CODE 6560-50-P